DEPARTMENT OF ENERGY

Federal Energy Regulatory Commission

Notice of Request for Extension of Time To Commence and Complete Construction of Project Improvements and Soliciting Comments, Protests, and Motions To Intervene

May 25, 2001.

Take notice that the following hydroelectric application has been filed with the Commission and is available for public inspection:

a. Application Type: Request for Extension of Time.

b. Project No: 2655-040.

c. Date Filed: March 19, 2001; Supplemented May 21, 2001.

d. Applicant: Eagle & Phenix Hydro Company, Inc.

e. Name and Location of Project: The Eagle & Phenix Hydroelectric Project is located on the Chattahoochee River in Miscogee County, Georgia and Russell County, Alabama. The project would not occupy federal or tribal lands.

f. Filed Pursuant to: Sections 4.200(c) and 4.202(a) of the Commission's regulations.

g. Applicant Contact: Ms. Beth Harris, Chi Energy, Inc., P.O. Box 8597, 1311A Miller Road, Greenville, SC 29604, (864) 281-9630.

h. FERC Contact: James Hunter, (202) 219-3839.

i. Deadline for filing comments, protests, and motions to intervene: 30 days from the issuance date this notice.

All documents (original and eight copies) should be filed with: David P. Boergers, Secretary, Federal Energy Regulatory Commission, 888 First Street, NE., Washington, DC 20426. Comments, protests, and motions to intervene may be filed electronically via the internet in lieu of paper. See, 18 CFR 385.2001(a)(1)(iii) and the instructions on the Commission's web site at http://www.ferc.fed.us/efi/doorbell.htm.

Please include the project number (P-2655-040) on any comments or motions filed. Previously filed comments on this extension request need not be repeated.

j. Description of Proposal: The licensee requests a two-year extension of time to commence and complete construction of an additional 24.3 megawatts of capacity at the project. The additional capacity was authorized by order issued December 19, 1986. The plan of construction was modified by order issued November 23, 1992. Article 301 of the project license, as last amended, requires that construction be commenced by June 19, 2001, and completed by June 19, 2003. In support of its request, the licensee states that the additional capacity is needed in the light of developing energy shortages. The licensee states further that it intends to work with the neighboring cities on the design of the new powerhouse, sponsoring a design contest, scheduling tours of the old and new powerhouses, and installing picnic facilities to support increased tourism.

k. Locations of the application: A copy of the application is available for inspection and reproduction at the Commission's Public Reference Room, located at 888 First Street, NE., Room 2A, Washington, DC 20426, or by calling (202) 208-1371. The application may be viewed on the web at www.ferc.fed.us/online/rims.htm (Call (202) 208-2222 for assistance). A copy is also available for inspection and reproduction at the address in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, or “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-13729 Filed 5-31-01; 8:45 am]

BILLING CODE 6717-01-M